DEPARTMENT OF COMMERCE

National Oceanic and Atmospheric Administration

RIN 0648-XD958

Pacific Fishery Management Council; Public Meetings

AGENCY: National Marine Fisheries Service (NMFS), National Oceanic and Atmospheric Administration (NOAA), Commerce.

ACTION: Notice of public meetings.

SUMMARY: The Pacific Fishery Management Council (Pacific Council) and its advisory entities will hold public meetings.

DATES: The Pacific Council and its advisory entities will meet June 10-16, 2015. The Pacific Council meeting will begin on Friday, June 12, 2015 at 8 a.m., reconvening each day through Tuesday, June 16, 2015. All meetings are open to the public, except a closed session will be held at 8 a.m. on Friday, June 12 to address litigation and personnel matters. The Pacific Council will meet as late as necessary each day to complete its scheduled business.

ADDRESSES: The meetings of the Council and its advisory entities will be held at the Doubletree by Hilton Spokane City Center, 322 N. Spokane Falls Court, Spokane, WA 99201; telephone: (509) 455-9600.

Council address: Pacific Fishery Management Council, 7700 NE Ambassador Place, Suite 101, Portland, OR 97220. Instructions for attending the meeting via live stream broadcast are given under SUPPLEMENTARY INFORMATION, below.

FOR FURTHER INFORMATION CONTACT: Dr. Donald O. McIsaac, Executive Director; telephone: (503) 820-2280 or (866) 806-7204 toll free; or access the Pacific Council Web site, http://www.pcouncil.org/council-operations/council-meetings/current-meeting/ for the current meeting location, proposed agenda, and meeting briefing materials.

SUPPLEMENTARY INFORMATION: The June 12-16, 2015 meeting of the Pacific Fishery Management Council will be streamed live on the Internet. The live meeting will be broadcast daily starting at 9 a.m. Pacific Time (PT) beginning on Friday, June 12, 2015 through Tuesday, June 16, 2015. The broadcast will end daily at 6 p.m. PT or when business for the day is complete. Only the audio portion, and portions of the presentations displayed on the screen at the Council meeting, will be broadcast. The audio portion is listen-only; you will be unable to speak to the Council via the broadcast. Join the meeting by visiting this link http://www.gotomeeting.com/online/webinar/join-webinar, enter the Webinar ID for this meeting, which is 159-274-491, and enter your email address as required. It is recommended that you use a computer headset as GoToMeeting allows you to listen to the meeting using your computer headset and speakers. If you do not have a headset and speakers, you may use your telephone for the audio portion of the meeting by dialing this TOLL number (1-646) 307-1720 (not a toll free number); entering the phone audio access code 574-408-270; and then entering your Audio Pin which will be shown to you after joining the webinar. The webinar is broadcast in listen only mode.

The following items are on the Pacific Council agenda, but not necessarily in this order. Agenda items noted as “(Final Action)” refer to actions requiring the Council to transmit a proposed fishery management plan, proposed plan amendment, or proposed regulations to the Secretary of Commerce, under sections 304 or 305 of the Magnuson-Stevens Fishery Conservation and Management Act. Additional detail on agenda items, Council action, and meeting rooms, is described in Agenda Item A.4, Proposed Council Meeting Agenda, and will be in the advance June 2015 briefing materials and posted on the Council Web site http://www.pcouncil.org/council-operations/council-meetings/current-briefing-book/.

A. Call to Order

1. Opening Remarks

2. Roll Call

3. Executive Director's Report

4. Approve Agenda

B. Open Comment Period

1. Comments on Non-Agenda Items

C. Habitat

1. Current Habitat Issues

D. Groundfish Management

1. National Marine Fisheries Service Report

2. Permit Stacking Cost Recovery Report (Final Action)

3. Salmon Endangered Species Act (ESA) Reconsultation Update

4. Non-Salmon ESA Report (Final Action)

5. Specifications Process for 2017-18 Fisheries

6. Groundfish Essential Fish Habitat and Rockfish Conservation Area Update

7. Inseason Adjustments (Final Action)

8. Final Stock Assessments and Catch Reports (Final Action)

9. Blackgill and Slope Rockfish Quota Share Allocation

10. Rebuilding Revision Rules

E. Highly Migratory Species Management

1. International Issues Including Inter-American Tropical Tuna Commission Meeting and North Pacific Albacore Management Strategy Evaluation

2. Final Approval of Resubmitted Exempted Fishing Permit Application (Final Action)

3. Swordfish Management and Monitoring Plan Hardcaps (Final Action)

F. Administrative Matters

1. Legislative Matters

2. Fiscal Matters

3. Approval of Council Meeting Minutes

4. Membership Appointments and Council Operating Procedures

5. Future Council Meeting Agenda and Workload Planning

G. Coastal Pelagic Species Management

1. National Marine Fisheries Service Report

2. Pacific Mackerel Assessment and Management Measures (Final Action)

3. Anchovy Update

4. Litigation Settlement Discussion

H. Ecosystem Management

1. Lenfest Taskforce and Ocean Modeling Forum Update

Advisory body agendas will include discussions of relevant issues that are on the Council agenda for this meeting, and may also include issues that may be relevant to future Council meetings. Proposed advisory body agendas for this meeting will be available on the Council Web site (www.pcouncil.org) prior to their meeting date.

Schedule of Ancillary Meetings

Day 1—Wednesday, June 10, 2015

Scientific and Statistical Committee Groundfish Subcommittee—8 a.m.

Day 2—Thursday, June 11, 2015

Groundfish Advisory Subpanel—8 a.m.

Groundfish Management Team—8 a.m.

Scientific and Statistical Committee—8 a.m.

Budget Committee—8:30 a.m.

Habitat Committee—8 a.m.

Legislative Committee—3 p.m.

Day 3—Friday, June 12, 2015

California State Delegation—7 a.m.

Oregon State Delegation—7 a.m.

Washington State Delegation—7 a.m.

Groundfish Advisory Subpanel—8 a.m.

Groundfish Management Team—8 a.m.

Highly Migratory Species Advisory Subpanel—8 a.m.

Highly Migratory Species Management Team—8 a.m.

Scientific and Statistical Committee (SSC)—8 a.m.

Enforcement Consultants—3 p.m.

Chairman's Reception—6 p.m.

Day 4—Saturday, June 13, 2015

California State Delegation—7 a.m.

Oregon State Delegation—7 a.m.

Washington State Delegation—7 a.m.

Groundfish Advisory Subpanel—8 a.m.

Groundfish Management Team—8 a.m.

Highly Migratory Species Advisory Subpanel—8 a.m.

Highly Migratory Species Management Team—8 a.m.

SSC Groundfish and Economic Subcommittees—8 a.m.

Enforcement Consultants—Ad hoc

Stock Assessment Question and Answer Session—7 p.m.

Day 5—Sunday, June 14, 2015

California State Delegation—7 a.m.

Oregon State Delegation—7 a.m.

Washington State Delegation—7 a.m.

Groundfish Advisory Subpanel—8 a.m.

Groundfish Management Team—8 a.m.

Highly Migratory Species Advisory Subpanel—8 a.m.

Highly Migratory Species Management Team—8 a.m.

Enforcement Consultants—Ad hoc

Day 6—Monday, June 15, 2015

California State Delegation—7 a.m.

Oregon State Delegation—7 a.m.

Washington State Delegation—7 a.m.

Coastal Pelagic Species Advisory Subpanel—8 a.m.

Coastal Pelagic Species Management Team—8 a.m.

Groundfish Advisory Subpanel—8 a.m.

Groundfish Management Team—8 a.m.

Enforcement Consultants—Ad hoc

Day 7—Tuesday, June 16, 2015

California State Delegation—7 a.m.

Oregon State Delegation—7 a.m.

Washington State Delegation—7 a.m.

Coastal Pelagic Species Advisory Subpanel—8 a.m.

Coastal Pelagic Species Management Team—8 a.m.

Enforcement Consultants—Ad hoc

Although non-emergency issues not contained in this agenda may come before this Council for discussion, those issues may not be the subject of formal Council action during these meetings. Council action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Carolyn Porter at (503) 820-2280 at least 5 days prior to the meeting date.

Dated: May 19, 2015.
Tracey L. Thompson,
Acting Deputy Director, Office of Sustainable Fisheries, National Marine Fisheries Service.

[FR Doc. 2015-12506 Filed 5-21-15; 8:45 am]

BILLING CODE 3510-22-P